ENVIRONMENTAL PROTECTION AGENCY

[FRL-7995-5]

Forty-Third Street Bay Drum Superfund Site; Notice of Settlement

AGENCY: Environmental Protection Agency.

ACTION: Notice of settlement.

SUMMARY: Under section 122(h)(1) of the Comprehensive Environmental Response, Compensation and Liability Act (CERCLA), the Environmental Protection Agency (EPA) has entered into an Agreement for Recovery of Past Cost (Agreement) at the Forty-Third Street Bay Drum Superfund Site (Site) located in Tampa, Hillsborough County, Florida, with Kardol, Inc. and FMM Drum, Inc. EPA will consider public comments on the Agreement until December 12, 2005. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887, Batchelor.Paula@epa.gov.

Written comments may be submitted to Ms. Batchelor at the above address within 30 days of the date of publication.

Dated: October 24, 2005.
Rosalind H. Brown,
Chief, Superfund Enforcement & Information Management Branch.

[FR Doc. 05-22373 Filed 11-9-05; 8:45 am]

BILLING CODE 6560-50-M